DEPARTMENT OF ENERGY

Notice of Availability of the Plains & Eastern Clean Line Transmission Project Final Environmental Impact Statement

AGENCY: Department of Energy.

ACTION: Notice of availability.

SUMMARY: The U.S. Department of Energy (DOE) announces the availability of the Plains & Eastern Clean Line Transmission Project Final Environmental Impact Statement (DOE/EIS-0486; Final EIS), prepared pursuant to the National Environmental Policy Act (NEPA). This Final EIS considered public comments on the Draft EIS, which was issued in December 2014, reports on the status of consultations under section 106 of the National Historic Preservation Act (NHPA) and under section 7 of the Endangered Species Act (ESA), and identifies DOE's preferred alternative. DOE has not made a decision whether to participate in the proposed Plains & Eastern Clean Line Transmission Project.

DATES: DOE will publish a Record of Decision no sooner than 30 days after publication of the U.S. Environmental Protection Agency's (EPA) Notice of Availability in the Federal Register.

ADDRESSES: The Final EIS is available on the DOE NEPA Web site at http://energy.gov/nepa and on the Plains & Eastern EIS Web site at http://www.plainsandeasterneis.com/. Copies of the Final EIS also are available in the public reading rooms listed in SUPPLEMENTARY INFORMATION.

A printed summary and CD of the complete Final EIS or a complete printed copy of the Final EIS (approximately 5,500 pages) may be requested by sending an email to info@PlainsandEasternEIS.com.

FOR FURTHER INFORMATION CONTACT: For information on the Plains & Eastern EIS or the Section 106 process, contact Jane Summerson, Ph.D., DOE NEPA Document Manager on behalf of the Office of Electricity Delivery and Energy Reliability, U.S. Department of Energy, DOE NNSA, Post Office Box 5400 Building 391, Kirtland Air Force Base East, Albuquerque, NM 87185; email at Jane.Summerson01@nnsa.doe.gov; or telephone at (505) 845-4091.

For general information regarding the DOE NEPA process, contact Carol Borgstrom, Director, Office of NEPA Policy and Compliance (GC-54), U.S. Department of Energy, 1000 Independence Avenue SW., Washington, DC 20585; or phone at (202) 586-4600; voicemail at (800) 472-2756; or email at askNEPA@hq.doe.gov. Additional information regarding DOE's NEPA activities is available on the DOE NEPA Web site at http://energy.gov/nepa.

Additional information on the Final EIS is also available through the EIS Web site at http://www.plainsandeasternEIS.com/.

SUPPLEMENTARY INFORMATION:

Background

In June 2010, DOE, acting through the Southwestern Power Administration and the Western Area Power Administration, both power marketing administrations within DOE, issued Request for Proposals for New or Upgraded Transmission Line Projects Under Section 1222 of the Energy Policy Act of 2005 (EPAct; 42 United States Code [U.S.C.] 16421; 75 FR 32940; June 10, 2010). In response to the request for proposals, Clean Line Energy Partners LLC of Houston, Texas, the parent company of Plains and Eastern Clean Line LLC and Plains and Eastern Clean Line Oklahoma LLC (collectively referred to as Clean Line or the Applicant) submitted a proposal to DOE in July 2010 for the Plains & Eastern Clean Line Project. In August 2011, Clean Line modified the proposal and subsequently submitted additional information (referred to as the Part 2 Application) in January 2015 at DOE's request.

DOE is the lead federal agency for the preparation of the Plains & Eastern EIS, which examines the potential environmental impacts from Clean Line's proposed Project (also referred to as the Applicant Proposed Project) and the range of reasonable alternatives. DOE has prepared the EIS pursuant to NEPA (42 U.S.C. 4321 et seq.), the Council on Environmental Quality NEPA regulations (40 Code of Federal Regulations [CFR] parts 1500 through 1508), and the DOE NEPA implementing regulations (10 CFR part 1021). DOE's purpose and need for agency action is to implement section 1222 of the EPAct. To that end, the Plains & Eastern EIS will inform DOE as it decides whether and under what conditions it would participate in the Project.

The Applicant Proposed Project would include an overhead ± 600-kilovolt (kV) high voltage direct current (HVDC) electric transmission system and associated facilities with the capacity to deliver approximately 3,500 megawatts (MW) primarily from renewable energy generation facilities in the Oklahoma and Texas Panhandle regions to load-serving entities in the Mid-South and Southeast United States via an interconnection with the Tennessee Valley Authority (TVA) in Tennessee. Major facilities associated with the Applicant Proposed Project consist of converter stations in Oklahoma and Tennessee; an approximately 720-mile, ± 600kV HVDC transmission line; an alternating current (AC) collection system; and access roads. Pursuant to NEPA, DOE has identified and analyzed potential environmental impacts for the range of reasonable alternatives to the Applicant Proposed Project. These alternatives include an Arkansas converter station and alternative routes for the HVDC transmission line. The Arkansas Converter Station alternative would increase the capacity of the proposed transmission system and facilities by 500MW (to 4,000MW) to facilitate delivery of electricity to the grid in Arkansas.

DOE has prepared this Final EIS in consultation with the following cooperating agencies: Bureau of Indian Affairs (BIA), Natural Resources Conservation Service (NRCS), TVA, U.S. Army Corps of Engineers (USACE), EPA, and the U.S. Fish and Wildlife Service (USFWS).

BIA, NRCS, TVA, USACE, and USFWS can, to the extent permitted by law, rely on the Plains & Eastern EIS to fulfill their obligations under NEPA for any action, permit, or approval by these agencies for the Project. Upgrades to TVA's transmission system would be necessary to interconnect with the Project while maintaining reliable service to its customers. Additionally, TVA would need to construct a new 500kV transmission line to enable the injection of 3,500MW of power from the Project. TVA would complete its own NEPA review, tiering from this EIS, to assess the impact of the upgrades and the new 500kV line. The USACE may consider the routing alternatives in Oklahoma, Arkansas, Texas, and Tennessee as presented in the Final EIS when making its permit decisions and can use the analysis contained in the Final EIS to inform all of its permit decisions for the Project.

DOE is the lead agency for consultation required under section 106 of the NHPA (54 U.S.C. 300101 et seq.) for the Project. DOE is using the NEPA process and documentation required for the Plains & Eastern EIS to comply with section 106 of the NHPA in lieu of the procedures set forth in 36 CFR 800.3 through 800.6. This approach is consistent with the recommendations set forth in the NHPA implementing regulations that section 106 compliance should be coordinated with actions taken to meet NEPA requirements (36 CFR 800.8(a)(1)). Appendix P of the Final EIS includes the draft Programmatic Agreement developed pursuant to 36 CFR 800.14(b). This draft Programmatic Agreement was developed consistent with DOE's obligations under NHPA section 106, including government-to-government consultation with Indian Tribes and Nations on whose tribal lands the undertaking may occur or that may attach religious and cultural significance to historic properties that may be affected by the undertaking, and consultation with the Arkansas, Oklahoma, Tennessee, and Texas State Historic Preservation Officers. DOE intends to execute the Programmatic Agreement prior to issuance of the Record of Decision or otherwise comply with procedures set forth in 36 CFR part 800.

DOE and the Applicant have prepared a Biological Assessment of potential impacts on special status species protected under the Endangered Species Act (ESA) as part of the section 7 consultation between DOE and the USFWS. The section 7 consultation review is a parallel, but separate, process to the NEPA process, conducted pursuant to the requirements of ESA and the applicable implementing regulations. The Biological Assessment and associated addendum are included as Appendix O to the Final EIS. The Biological Opinion, to be issued by the USFWS, may identify additional protective measures to avoid or minimize impacts to special status species.

In the Final EIS, DOE analyzed the potential environmental impacts of the Applicant Proposed Project, the range of reasonable alternatives, and a No Action Alternative. The potential environmental impacts resulting from connected actions (wind energy generation and substation and transmission upgrades related to the Project) were also analyzed in the Final EIS. The Final EIS considers comments submitted on the Draft EIS, including those submitted during the public comment period that began on December 19, 2014, and ended on April 20, 2015. Late comments have been considered to the extent practicable. During the comment period, DOE held 15 public hearings in Oklahoma, Texas, Arkansas, and Tennessee. Approximately 950 comment documents were received from individuals, interested groups, tribal governments, and federal, state, and local agencies during the public comment period on the Draft EIS. This total includes a single copy of documents that were received as part of 50 email and letter campaigns (i.e., identical letters signed and submitted by more than one commenter). The total number of campaign documents was approximately 1,700 emails or letters. In addition to numerous comments that provided a statement of general opposition or support, the primary topics raised include, but are not limited to concern about electric and magnetic fields from the transmission line; concern about reductions in property value; concern about impacts to agricultural resources such as crop production, irrigation, and aerial spraying; concern about the use of eminent domain; and concern about visual impacts from the transmission line.

As indicated above, DOE's purpose and need for agency action is to implement section 1222 of the EPAct. While developing the Final EIS, DOE considered the alternatives analyzed in the Draft EIS, the comparison of potential impacts for each resource area, and input received on the Draft EIS. Based on the information presented in the Final EIS, DOE has identified participation in the Project as its preferred alternative in the Final EIS. The Project would include the Oklahoma converter station and AC interconnection, the AC collection system, the Applicant Proposed Route for the majority of the HVDC transmission line (with the exception of route variation Region 4, Applicant Proposed Route Link 3, Variation 2), and the Arkansas converter station and AC interconnection.

Consistent with section 1222 of the EPAct, DOE's participation would be limited to states in which Southwestern operates, namely, Oklahoma, Arkansas, and, possibly, Texas, but not Tennessee. Consequently, DOE would not participate in the portions of the Project that would be sited in Tennessee.

Other Regulations

Parallel with the NEPA process, DOE is evaluating Clean Line's application under section 1222 of the EPAct. This non-NEPA evaluation includes, but is not limited to, reviewing the application against statutory criteria and other factors listed in the 2010 request for proposals (75 FR 32940). An outcome of this evaluation could be a Participation Agreement between Clean Line and DOE, which would define under what conditions DOE would participate with Clean Line and, if applicable, would include any stipulations or requirements that resulted from this environmental review under NEPA. The DOE Office of Electricity Delivery and Energy Reliability Web site (http://www.energy.gov/oe/services/electricity-policy-coordination-and-implementation/transmission-planning/section-1222-0) provides more information about the section 1222 evaluation.

Public Reading Rooms

Copies of the Final EIS and supporting documents are available for inspection at the following locations:

Oklahoma

• Guymon Public Library—1718 N. Oklahoma St., Guymon, OK 73942

• Beaver County Pioneer Library—201 Douglas Ave., Beaver, OK 73932

• Woodward Public Library—1500 W. Main St., Woodward, OK 73801

• Muskogee Public Library—801 W. Okmulgee Ave., Muskogee, OK 74401

• Enid & Garfield County Public Library—120 W. Maine St., Enid, OK 73701

• Buffalo Public Library—11 E. Turner St., Buffalo, OK 73834

• Fairview City Library—115 S. 6th St., Fairview, OK 73737

• Guthrie Public Library—201 N. Division St., Guthrie, OK 73044

• Stillwater Public Library—1107 S. Duck St., Stillwater, OK 74074

• Chandler Public Library—1021 Manvel Ave., Chandler, OK 74834

• Montfort and Allie B. Jones Memorial Library—111 W. 7th Ave., Bristow, OK 74010

• Bartlett-Carnegie Sapulpa Public Library—27 W. Dewey Ave., Sapulpa, OK 74066

• Cushing Public Library—215 North Steele Ave., Cushing, OK 74023

• Okmulgee Public Library—218 S. Okmulgee Ave., Okmulgee, OK 74447

• Stanley Tubbs Memorial Library—101 E. Cherokee Ave., Sallisaw, OK 74955

Arkansas

• Van Buren Public Library—1409 Main St., Van Buren, AR 72956

• Pope County Library—116 E. 3rd St., Russellville, AR 72801

• Jackson County/W.A. Billingsley Memorial Library—213 Walnut St., Newport, AR 72112

• Searcy Public Library—113 E. Pleasure Ave., Searcy, AR 72143

• Marked Tree Public Library—102 Locust St., Marked Tree, AR 72365

• Franklin County Library—407 W. Market St., Ozark, AR 72949

• Johnson County Library—2 Taylor Cir., Clarksville, AR 72830

• Conway County Library—101 W. Church St., Morrilton, AR 72110

• Conway Public Library—1900 W. Tyler St., Conway, AR 72034

• Mary I. Wold Cleburne County Library—1009 W. Main St., Heber Springs, AR 72543

• Poinsett County Library—200 N. East St., Harrisburg, AR 72432

• Blytheville Public Library—200 N. 5th St., Blytheville, AR 72315

• Osceola Public Library—320 W. Hale Ave., Osceola, AR 72370

• Cross County Library—410 E. Merriman Ave., Wynne, AR 72396

Tennessee

• Munford Memorial Library—1476 Munford Ave., Munford, TN 38058

Texas

• Hansford County Library—122 Main St., Spearman, TX 79081

Issued in Washington, DC, on November 2, 2015.
Patricia A. Hoffman,
Assistant Secretary, Office of Electricity Delivery and Energy Reliability.

[FR Doc. 2015-28574 Filed 11-12-15; 8:45 am]

BILLING CODE 6450-01-P